DEPARTMENT OF JUSTICE

Notice of Lodging of a Consent Decree Under the Comprehensive Environmental Response, Compensation and Liability Act

Under 42 U.S.C. § 9622(i), notice is hereby given that on January 22, 2002, a proposed Consent Decree in United States v. Mountain Metal Co., et al., Civil Action No. CV-98-C-2562-S was lodged with the United States District Court for the Northern District of Alabama.

In this action, the United States sought reimbursement of costs incurred in responding to the release and threatened release of hazardous substances at the ILCO battery cracking site in Leeds, Alabama. In this Consent Decree, G. J. Batteries, Inc., and Jowers Battery, Inc., are settling their liability to the United States by paying a total of $40,000 plus interest. This settlement is based on the defendants' showing of an inability to pay their allocable share. Prior to this Consent Decree, the United States obtained partial reimbursement of its costs through judicial settlement with 58 parties and administrative settlements with 286 parties.

The Department of Justice will receive comments relating to the proposed Consent Decree for a period of thirty (30) days from the date of this publication. As a result of the discovery of anthrax contamination at the District of Columbia mail proceeding center in mid-October, 2001, the delivery of regular first-class mail sent through the U.S. Postal Service has been disrupted. Consequently, public comments which are addressed to the Department of Justice in Washington, DC and sent by regular, first-class mail through the U.S. Postal Service are not expected to be received in a timely manner. Therefore, comments should be addressed to the Assistant Attorney General, Environment and Natural Resources Division, Department of Justice, and sent: (1) c/o Cheryl L. Smout, 17 N. Greenbrier Street, Arlington, Virginia, 22203; and/or (2) by facsimile to (202) 353-0296; and/or (3) by overnight delivery, other than through the U.S. Postal Service, to Chief, Environmental Enforcement Section, 1425 New York Avenue, NW., 13th Floor, Washington, DC 20005. Each communication should refer on its face to United States v. Mountain Metal Co., et al., D.J. Ref. 90-11-2-108/2.

The Consent Decrees may be examined at the Office of the United States Attorney, 200 Robert S. Vance Fed. Bldg., 1800 5th Avenue N., Room 200, Birmingham, Alabama, and at U.S. EPA Region 4, 61 Forsyth Street, Atlanta, Georgia. A copy of the Consent Decrees may also be obtained by faxing a request to Tonia Fleetwood, Department of Justice Consent Decree Library fax no. (202) 616-6584; phone confirmation no. (202) 514-1547. There is a charge for the copy (25 cents per page reproduction cost). Upon requesting a copy, please mail a check payable to the “U.S. Treasury” in the amount of $10.75, to: Consent Decree Library, U.S. Department of Justice, P.O. Box 7611, Washington, DC 20044-7611. The check should refer to United States v. Mountain Metal Co., et al., D.J. Ref. 90-11-2-108/2.

Ellen Mahan,
Assistant Chief, Environmental, Enforcement Section, Environment and Natural Resources, Division.

[FR Doc. 02-2857 Filed 2-5-02; 8:45 am]

BILLING CODE 4410-15-M